DEPARTMENT OF COMMERCE

Foreign-Trade Zones Board

[Docket 39-2000]

Foreign-Trade Zone 44—Mt. Olive, NJ; Request for Extension of Manufacturing Authority; Quest International Fragrances USA, Inc. (Flavor and Fragrance Products)

An application has been submitted to the Foreign-Trade Zones Board (the Board) by the New Jersey Commerce and Economic Growth Commission, Trenton, NJ, grantee of FTZ 44, on behalf of Quest International Fragrances USA, Inc. (Quest), requesting extension of authority to manufacture flavor and fragrance products under FTZ procedures. The application was formally filed on July 18, 2000.

Quest received approval for manufacturing authority on August 31, 1989 (A-22-89), subject to a 5-year time limit (to 8/31/94; extended to 8/31/01), and to special reporting requirements. Quest is now requesting that the authority to manufacture under zone procedures be extended on a permanent basis and without the special reporting requirements.

FTZ procedures exempt Quest from Customs duty payments on the foreign components used in export production. On its domestic sales, the company is able to defer Customs duty payments on foreign materials and choose the duty rate that applies to the finished products (duty free) instead of the rates otherwise applicable to the foreign materials (duty rates on these items range from duty-free to 12.7%). The company is exempt from duty payments on foreign merchandise that becomes scrap/waste. The application indicates that savings from zone procedures would continue to help improve the plant's international competitiveness.

In accordance with the Board's regulations, a member of the FTZ staff has been designated examiner to investigate the application and report to the Board.

Public comment on the application is invited from interested parties. Submissions (original and three copies) shall be addressed to the Board's Executive Secretary at the address below. The closing period of their receipt is October 2, 2000. Rebuttal comments in response to material submitted during the foregoing period may be submitted during the subsequent 15-day period October 16, 2000.

A copy of the application and the accompanying exhibits will be available for public inspection at the following location: Office of the Executive Secretary, Foreign-Trade Zones Board, Room 3716, U.S. Department of Commerce, 14th & Pennsylvania Avenue, NW, Washington, DC 20230.

Dated: July 21, 2000.
Dennis Puccinelli,
Executive Secretary.

[FR Doc. 00-19555 Filed 8-1-00; 8:45 am]

BILLING CODE 3510-DS-P